DEPARTMENT OF HEALTH AND HUMAN SERVICES

Food and Drug Administration

[Docket No. 02D-0509]

International Conference on Harmonisation; Draft Guidance on the M4 Common Technical Document—Quality: Questions and Answers/Location Issues; Correction

AGENCY: Food and Drug Administration, HHS.

ACTION: Notice; correction.

SUMMARY: The Food and Drug Administration is correcting a notice that appeared in the Federal Register of December 30, 2002 (67 FR 79639). The document announced the availability of a draft guidance entitled “Common Technical Document—Quality: Questions and Answers/Location Issues.” The document was published with an inadvertent error. This document corrects that error.

FOR FURTHER INFORMATION CONTACT: Joyce Strong, Office of Policy (HF-27), Food and Drug Administration, 5600 Fishers Lane, Rockville, MD 20857, 301-827-7010.

SUPPLEMENTARY INFORMATION: In FR Doc. 02-32852, appearing on page 79639 in the Federal Register of Monday, December 30, 2002, the following correction is made:

1. On page 79639, in the first column, in the heading of the document, “[Docket No. 02N-0509]” is corrected to read “[Docket No. 02D-0509]”.

Dated: January 3, 2003.
Margaret M. Dotzel,
Assistant Commissioner for Policy.

[FR Doc. 03-360 Filed 1-8-03; 8:45 am]

BILLING CODE 4160-01-S